DEPARTMENT OF HOMELAND SECURITY

Federal Emergency Management Agency

44 CFR Part 64

[Docket ID FEMA-2010-0003; Internal Agency Docket No. FEMA-8145]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 17, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

—
State and location | Community No. | Effective date authorization/cancellation of sale of flood insurance in community | Current effective map date | Date certain Federal assistance no longer available in SFHAs
Region II
New York:
Barker, Village of, Niagara County | 360498 | April 10, 1975, Emerg; May 1, 1984, Reg; September 17, 2010, Susp | Sept. 17, 2010 | Sept. 17, 2010.
Cambria, Town of, Niagara County | 360499 | July 7, 1975, Emerg; September 30, 1983, Reg; September 17, 2010, Susp | ......do | Do.
Hartland, Town of, Niagara County | 360500 | May 1, 1975, Emerg; October 7, 1983, Reg; September 17, 2010, Susp | ......do | Do.
Lewiston, Town of, Niagara County | 360502 | March 27, 1974, Emerg; June 18, 1980, Reg; September 17, 2010, Susp | ......do | Do.
Lockport, City of, Niagara County | 360503 | December 17, 1973, Emerg; February 4, 1981, Reg; September 17, 2010, Susp | ......do | Do.
Lockport, Town of, Niagara County | 361013 | December 17, 1973, Emerg; September 2, 1981, Reg; September 17, 2010, Susp | ......do | Do.
Middleport, Village of, Niagara County | 360505 | April 8, 1975, Emerg; August 1, 1983, Reg; September 17, 2010, Susp | ......do | Do.
North Tonawanda, City of, Niagara County | 360508 | May 14, 1975, Emerg; January 6, 1982, Reg; September 17, 2010, Susp | ......do | Do.
Pendleton, Town of, Niagara County | 360509 | April 12, 1974, Emerg; January 6, 1982, Reg; September 17, 2010, Susp | ......do | Do.
Porter, Town of, Niagara County | 360510 | July 17, 1974, Emerg; August 15, 1983, Reg; September 17, 2010, Susp | ......do | Do.
Royalton, Town of, Niagara County | 360511 | November 29, 1974, Emerg; July 6, 1979, Reg; September 17, 2010, Susp | ......do | Do.
Wheatfield, Town of, Niagara County | 360513 | July 5, 1973, Emerg; July 16, 1981, Reg; September 17, 2010, Susp | ......do | Do.
Youngstown, Village of, Niagara County | 360515 | March 30, 1973, Emerg; June 4, 1980, Reg; September 17, 2010, Susp | ......do | Do.
Region III
Virginia:
Clifton, Town of, Fairfax County | 510186 | December 5, 1973, Emerg; May 2, 1977, Reg; September 17, 2010, Susp | ......do | Do.
Fairfax County, Unincorporated Areas | 515525 | June 19, 1970, Emerg; January 7, 1972, Reg; September 17, 2010, Susp | ......do | Do.
Gloucester County, Unincorporated Areas | 510071 | March 25, 1974, Emerg; August 4, 1987, Reg; September 17, 2010, Susp | ......do | Do.
Herndon, Town of, Fairfax County | 510052 | May 21, 1973, Emerg; August 1, 1979, Reg; September 17, 2010, Susp | ......do | Do.
Irvington, Town of, Lancaster County | 510221 | August 18, 1975, Emerg; August 4, 1987, Reg; September 17, 2010, Susp | ......do | Do.
Lancaster County, Unincorporated Areas | 510084 | November 27, 1973, Emerg; March 4, 1988, Reg; September 17, 2010, Susp | ......do | Do.
Northumberland County, Unincorporated Areas | 510107 | October 9, 1973, Emerg; July 4, 1989, Reg; September 17, 2010, Susp | ......do | Do.
Vienna, Town of, Fairfax County | 510053 | August 8, 1974, Emerg; February 3, 1982, Reg; September 17, 2010, Susp | ......do | Do.
White Stone, Town of, Lancaster County | 510235 | August 18, 1975, Emerg; September 24, 1984, Reg; September 17, 2010, Susp | ......do | Do.
Region IV
Alabama:
Aliceville, City of, Pickens County | 010180 | February 8, 1974, Emerg; July 17, 1978, Reg; September 17, 2010, Susp | ......do | Do.
Ethelsville, Town of, Pickens County | 010281 | December 21, 1978, Emerg; March 18, 1985, Reg; September 17, 2010, Susp | ......do | Do.
Gordo, Town of, Pickens County | 010220 | August 6, 1974, Emerg; August 15, 1978, Reg; September 17, 2010, Susp | ......do | Do.
Pickens County, Unincorporated Areas | 010283 | May 25, 1976, Emerg; June 4, 1990, Reg; September 17, 2010, Susp | ......do | Do.
Pickensville, Town of, Pickens County | 010423 | N/A, Emerg; June 6, 1996, Reg; September 17, 2010, Susp | ......do | Do.
Reform, Town of, Pickens County | 010221 | July 31, 1974, Emerg; July 3, 1978, Reg; September 17, 2010, Susp | ......do | Do.
Georgia:
Comer, City of, Madison County | 130211 | May 12, 1975, Emerg; June 1, 1978, Reg; September 17, 2010, Susp | ......do | Do.
Morganton, City of, Fannin County | 130449 | November 17, 1976, Emerg; April 2, 1986, Reg; September 17, 2010, Susp | ......do | Do.
Mountain City, Town of, Rabun County | 130252 | January 30, 1980, Emerg; July 9, 1982, Reg; September 17, 2010, Susp | ......do | Do.
Randolph County, Unincorporated Areas | 130553 | May 16, 1997, Emerg; September 17, 2010, Reg; September 17, 2010, Susp | ......do | Do.
Kentucky:
Hustonville, City of, Lincoln County | 210144 | August 26, 1975, Emerg; September 27, 1985, Reg; September 17, 2010, Susp | ......do | Do.
Stanford, City of, Lincoln County | 210145 | February 26, 1975, Emerg; September 27, 1985, Reg; September 17, 2010, Susp | ......do | Do.
Mississippi:
Alcorn County, Unincorporated Areas | 280267 | N/A, Emerg; February 27, 1992, Reg; September 17, 2010, Susp | ......do | Do.
Coffeeville, Town of, Yalobusha County | 280186 | April 8, 1975, Emerg; September 4, 1986, Reg; September 17, 2010, Susp | ......do | Do.
Corinth, City of, Alcorn County | 280002 | July 26, 1974, Emerg; March 16, 1981, Reg; September 17, 2010, Susp | ......do | Do.
Duck Hill, Town of, Montgomery County | 280118 | June 23, 1975, Emerg; April 2, 1986, Reg; September 17, 2010, Susp | ......do | Do.
Louisville, City of, Winston County | 280185 | February 11, 1974, Emerg; June 15, 1978, Reg; September 17, 2010, Susp | ......do | Do.
Montgomery County, Unincorporated Areas | 280212 | April 11, 1974, Emerg; September 1, 1987, Reg; September 17, 2010, Susp | ......do | Do.
Rienzi, Town of, Alcorn County | 280322 | October 30, 2006, Emerg; September 17, 2010, Reg; September 17, 2010, Susp | ......do | Do.
Water Valley, City of, Yalobusha County | 280187 | December 5, 1974, Emerg; September 27, 1985, Reg; September 17, 2010, Susp | ......do | Do.
Winona, City of, Montgomery County | 280119 | February 18, 1975, Emerg; July 2, 1987, Reg; September 17, 2010, Susp | ......do | Do.
Winston County, Unincorporated Areas | 280308 | December 21, 1978, Emerg; August 19, 1985, Reg; September 17, 2010, Susp | ......do | Do.
Tennessee:
Ashland City, Town of, Cheatham County | 470027 | March 10, 1975, Emerg; April 1, 1981, Reg; September 17, 2010, Susp | ......do | Do.
Cheatham County, Unincorporated Areas | 470026 | September 27, 1974, Emerg; May 19, 1981, Reg; September 17, 2010, Susp | ......do | Do.
Decatur, Town of, Meigs County | 470134 | March 27, 1975, Emerg; June 3, 1986, Reg; September 17, 2010, Susp | ......do | Do.
Kingston Springs, Town of, Cheatham County | 470289 | June 11, 1984, Emerg; June 11, 1984, Reg; September 17, 2010, Susp | ......do | Do.
Pegram, Town of, Cheatham County | 470291 | April 9, 1987, Emerg; April 9, 1987, Reg; September 17, 2010, Susp | ......do | Do.
Region V
Illinois:
Bonnie, Village of, Jefferson County | 170306 | September 10, 1975, Emerg; August 19, 1985, Reg; September 17, 2010, Susp | ......do | Do.
East Dubuque, City of, Jo Daviess County | 170752 | June 25, 1975, Emerg; October 18, 1983, Reg; September 17, 2010, Susp | ......do | Do.
Galena, City of, Jo Daviess County | 175168 | August 27, 1971, Emerg; July 20, 1973, Reg; September 17, 2010, Susp | ......do | Do.
Hanover, Village of, Jo Daviess County | 170755 | July 21, 1975, Emerg; May 4, 1989, Reg; September 17, 2010, Susp | ......do | Do.
Ina, Village of, Jefferson County | 170307 | March 2, 1976, Emerg; May 25, 1984, Reg; September 17, 2010, Susp | ......do | Do.
Jefferson County, Unincorporated Areas | 170305 | October 31, 2000, Emerg; September 17, 2010, Reg; September 17, 2010, Susp | ......do | Do.
Jo Daviess County, Unincorporated Areas | 170902 | April 19, 1979, Emerg; January 18, 1984, Reg; September 17, 2010, Susp | ......do | Do.
Mount Vernon, City of, Jefferson County | 170308 | September 30, 1974, Emerg; February 15, 1984, Reg; September 17, 2010, Susp | ......do | Do.
Peoria Heights, Village of, Peoria, Tazewell, and Woodford Counties | 170537 | October 13, 1972, Emerg; November 1, 1979, Reg; September 17, 2010, Susp | ......do | Do.
Roanoke, Village of, Woodford County | 170727 | June 17, 1975, Emerg; September 4, 1987, Reg; September 17, 2010, Susp | ......do | Do.
Spring Bay, Village of, Woodford County | 170887 | August 26, 1977, Emerg; June 4, 1980, Reg; September 17, 2010, Susp | ......do | Do.
Washburn, Village of, Marshall and Woodford Counties | 170728 | January 27, 1975, Emerg; July 2, 1987, Reg; September 17, 2010, Susp | ......do | Do.
Woodford County, Unincorporated Areas | 170730 | September 7, 1973, Emerg; February 1, 1984, Reg; September 17, 2010, Susp | ......do | Do.
Michigan:
Bangor, Township of, Bay County | 260019 | March 30, 1973, Emerg; July 2, 1979, Reg; September 17, 2010, Susp | ......do | Do.
Bay City, City of, Bay County | 260020 | March 30, 1973, Emerg; September 1, 1978, Reg; September 17, 2010, Susp | ......do | Do.
Essexville, City of, Bay County | 260021 | March 30, 1973, Emerg; September 1, 1978, Reg; September 17, 2010, Susp | ......do | Do.
Fraser, Township of, Bay County | 260657 | November 13, 1981, Emerg; November 13, 1981, Reg; September 17, 2010, Susp | ......do | Do.
Hampton, Township of, Bay County | 260023 | March 30, 1973, Emerg; August 1, 1978, Reg; September 17, 2010, Susp | ......do | Do.
Kawkawlin, Township of, Bay County | 260658 | January 29, 1979, Emerg; February 1, 1979, Reg; September 17, 2010, Susp | ......do | Do.
Monitor, Township of, Bay County | 260358 | July 21, 1982, Emerg; August 19, 1985, Reg; September 17, 2010, Susp | ......do | Do.
Pinconning, City of, Bay County | 260607 | March 17, 1975, Emerg; August 3, 1981, Reg; September 17, 2010, Susp | ......do | Do.
Pinconning, Township of, Bay County | 260025 | March 30, 1973, Emerg; September 1, 1978, Reg; September 17, 2010, Susp | ......do | Do.
Region VII
Missouri:
Bolivar, City of, Polk County | 290299 | July 24, 1975, Emerg; June 15, 1988, Reg; September 17, 2010, Susp | ......do | Do.
Marshfield, City of, Webster County | 290685 | June 13, 1975, Emerg; September 10, 1984, Reg; September 17, 2010, Susp | ......do | Do.
Seymour, City of, Webster County | 290933 | N/A, Emerg; February 11, 2005, Reg; September 17, 2010, Susp | ......do | Do.
Webster County, Unincorporated Areas | 290848 | N/A, Emerg; April 14, 2003, Reg; September 17, 2010, Susp | ......do | Do.
Region X
Oregon:
Astoria, City of, Clatsop County | 410028 | October 16, 1974, Emerg; August 1, 1978, Reg; September 17, 2010, Susp | ......do | Do.
Cannon Beach, City of, Clatsop County | 410029 | March 6, 1974, Emerg; September 1, 1978, Reg; September 17, 2010, Susp | ......do | Do.
Clatsop County, Unincorporated Areas | 410027 | February 7, 1974, Emerg; July 3, 1978, Reg; September 17, 2010, Susp | ......do | Do.
Gearhart, City of, Clatsop County | 410030 | April 11, 1974, Emerg; May 15, 1978, Reg; September 17, 2010, Susp | ......do | Do.
Seaside, City of, Clatsop County | 410032 | March 25, 1974, Emerg; September 5, 1979, Reg; September 17, 2010, Susp | ......do | Do.
Warrenton, City of, Clatsop County | 410033 | July 16, 1975, Emerg; May 15, 1978, Reg; September 17, 2010, Susp | ......do | Do.
* do = Ditto.
Code for reading third column: Emerg.—Emergency; Reg.—Regular; Susp.—Suspension.

Dated: August 19, 2010.
Sandra K. Knight,
Deputy Federal Insurance and Mitigation Administrator, Mitigation.

[FR Doc. 2010-21594 Filed 8-27-10; 8:45 am]

BILLING CODE 9110-12-P